SECURITIES AND EXCHANGE COMMISSION

[SEC File No. 270-037, OMB Control No. 3235-0031]

Submission for OMB Review; Comment Request; Extension: Rule 17f-2(e)

Upon Written Request, Copies Available From: Securities and Exchange Commission, Office of FOIA Services, 100 F Street NE, Washington, DC 20549-2736.

Notice is hereby given that pursuant to the Paperwork Reduction Act of 1995 (“PRA”) (44 U.S.C. 3501 et seq.), the Securities and Exchange Commission (“Commission”) has submitted to the Office of Management and Budget (“OMB”) a request for approval of extension of the previously approved collection of information provided for in Rule 17f-2(e) (17 CFR 240.17f-2(e)), under the Securities Exchange Act of 1934 (15 U.S.C. 78a et seq.).

Rule 17f-2(e) requires every member of a national securities exchange, broker, dealer, registered transfer agent, and registered clearing agency (“covered entities”) claiming an exemption from the fingerprinting requirements of Rule 17f-2 to make and keep current a statement entitled “Notice Pursuant to Rule 17f-2” (“Notice”) containing the information specified in paragraph (e)(1) to support their claim of exemption.

Rule 17f-2(e) contains no filing requirement. Instead, paragraph (e)(2) requires covered entities to keep a copy of the Notice in an easily accessible place at the organization's principal office and at the office employing the persons for whom exemptions are claimed and to make the Notice available upon request for inspection by the Commission, appropriate regulatory agency (if not the Commission), or other designated examining authority. Notices prepared pursuant to Rule 17f-2(e) must be maintained for different lengths of time depending on the type of entity maintaining the Notice. Under Rule 240.17a-1, every registered clearing agency must keep and preserve at least one copy of all documents made or received by it in the course of its business for a period of not less than five years. Under Rule 240.17a-4 certain members of national securities exchanges, brokers, and dealers must maintain the Notice during the life of their enterprise. Under Rule 240.17Ad-7, registered transfer agents must maintain the Notice in an easily accessible place. The recordkeeping requirement under Rule 17f-2(e) assists the Commission and other regulatory agencies with ensuring compliance with Rule 17f-2. This rule does not involve the collection of confidential information.

We estimate that approximately 75 respondents will incur an average burden of 30 minutes per year to comply with this rule, which represents the time it takes for a staff person at a covered entity to properly document a claimed exemption from the fingerprinting requirements of Rule 17f-2 in the required Notice and to properly retain the Notice according to the entity's record retention policies and procedures. The total annual burden for all covered entities is approximately 38 hours (75 entities × .5 hours, rounded up).

An agency may not conduct or sponsor, and a person is not required to respond to, a collection of information under the PRA unless it displays a currently valid OMB control number.

The public may view background documentation for this information collection at the following website: www.reginfo.gov. Find this particular information collection by selecting “Currently under 30-day Review—Open for Public Comments” or by using the search function. Written comments and recommendations for the proposed information collection should be sent by October 23, 2023 to (i) www.reginfo.gov/public/do/PRAMain and (ii) David Bottom, Director/Chief Information Officer, Securities and Exchange Commission, c/o John Pezzullo, 100 F Street NE, Washington, DC 20549, or by sending an email to: PRA_Mailbox@sec.gov.

Dated: September 18, 2023.
Sherry R. Haywood,
Assistant Secretary.

[FR Doc. 2023-20528 Filed 9-21-23; 8:45 am]

BILLING CODE 8011-01-P